DEPARTMENT OF THE INTERIOR

Office of Surface Mining Reclamation and Enforcement

Proposed Kykotsmovi Sewer Lagoon—Public Facility Project

AGENCY: Office of Surface Mining Reclamation and Enforcement (OSM), Interior.

ACTION: Notice of application for grant funding; public comment period for the Hopi Tribe's request to fund the Village of Kykotsmovi Sewer Lagoon—Public Facility Project.

SUMMARY: OSM is announcing its receipt of a grant application from the Hopi Abandoned Mine Land (AML) Program, in Kykotsmovi, Arizona. The Hopi Tribe is requesting $200,000 from the Abandoned Mine Reclamation Fund to pay the cost of upgrades to the existing wastewater infrastructure within the Village of Kykotsmovi on the Hopi Indian Reservation. In its application, the Hopi Tribe proposes paying for a percentage of the total construction cost as a public facility project (PFP) to offset various socioeconomic impacts to the community that is impacted by the mining of Hopi coal. The Chairman of the Hopi Tribe has determined that this project is necessary to prevent an imminent threat to human health and safety.

This notice describes when and where you may read the Grant Application that requests funding for the Village of Kykotsmovi—Sewer Lagoon Public Facilities Project. It also sets the time period during which you may send written comments on the request to OSM.

DATES: We will accept written comments until 4 p.m., d.s.t., June 8, 2000.

ADDRESSES: You should mail or hand-deliver your written comments to Willis L. Gainer, Albuquerque Field Office Director, at the address shown below.

You may preferably read the Hopi Tribes Grant Application for this proposed project during normal business hours Monday through Friday (excluding holidays) at the same address. However, OSM will send one free copy of the grant application to you if you contact OSM's Albuquerque Field Office.

Willis L. Gainer, Director, Albuquerque Field Office, Office of Surface Mining Reclamation and Enforcement, 505 Marquette Avenue NW., Suite 1200, Albuquerque, New Mexico 82601-1918.

FOR FURTHER INFORMATION CONTACT: Willis L. Gainer, Telephone: (505) 248-5070.

SUPPLEMENTARY INFORMATION:

I. Background on Title IV of SMCRA

Title IV of the Surface Mining Control and Reclamation Act (SMCRA) established an Abandoned Mine Land Reclamation (AMLR) Program. The purpose of the AMLR Program is to reclaim and restore lands and waters that were adversely affected by past mining. The AMLR Program is funded by a reclamation fee paid by active coal mining operations. Lands and waters eligible for reclamation under Title IV are primarily those that were mined, or affected by mining, and abandoned or inadequately reclaimed before August 3, 1977, and for which there is no continuing reclamation responsibility under State, Federal, or other laws.

Title IV of SMCRA allows States or Indian Tribes to submit AMLR plans to OSM. On behalf of the Secretary, OSM reviews those plans and considers any public comments received. If OSM determines that a State or Indian Tribe has the ability and necessary legislation to operate an AMLR program, the Secretary can approve it. The Secretary's approval gives a State or Tribe exclusive authority to put its AMLR plan into effect.

Once the Secretary approves a State's AMLR plan, the State or Tribe may apply to OSM for money to fund specific projects that will achieve the goals of its approved plan. OSM follows the requirements of the Federal regulations at 30 CFR parts 874, 875, and 886 when we review and approve such applications.

II. Background on the Hopi AML Plan

The Secretary of the Interior approved the Hopi Tribe's AML plan on June 28, 1988. General background information on the Hopi Tribe AML Plan, including the Secretary's findings and disposition of comments, can be found in the June 28, 1988, Federal Register (53 FR 25262). Subsequent actions concerning the Hopi Tribe's AML Plan can be found at 30 CFR 756.16, 756.17, and 756.18. Effective June 9, 1994, (59 FR 29721) the Director approved the Hopi Tribe's certification that it had addressed all known coal-related impacts on the Hopi Reservation that were eligible for funding.

As a result, the Hopi Tribe may submit annual grant requests for AML funds to address eligible lands, waters, and facilities impacted by noncoal mining and construction of new facilities in accordance with the provisions of Section 411 of SMCRA. The effect of the Director's concurrence is to authorize the Hopi Tribe to use its AML funds for noncoal reclamation and construction of Public Facilities or Community Impact Projects in areas of the Hopi Reservation impacted by coal development, mining, or processing as provided in section 411 of SMCRA.

On March 31, 1997, OSM approved an amendment (62 FR 15112) to the Hopi AML Plan to add language at Section II, A(1) to provide for reclamation of any newly discovered coal hazards after certification. In the same Federal Register notice, OSM approved revisions to Section I, A of the Hopi AML Plan which state that the purpose of the Hopi AML plan is to: “Protect the health, safety, and general welfare of members of the Hopi Tribe and members of the general public from the harmful effects of past coal mining practices and past mineral mining and processing practices.” In addition, OSM approved revised language that provides for other purposes as well such as to: (1) Address adverse effects of mining and processing practices on public facilities; (2) provide for public facilities in communities impacted by coal or other mineral mining and processing practices; and (3) address needs for activities or public facilities related to the coal or minerals industry on Hopi lands impacted by coal or minerals development.

Section II, B—Noncoal Reclamation After Certification, of the Hopi AML Plan states at paragraph (f): “Notwithstanding the requirements in paragraph (c) of this section, where the Chairman of the Hopi Tribe determines there is a need for activities or construction of specific public facilities related to the coal or mineral industry on Tribal lands impacted by coal or minerals development, and the Director of OSM concurs in such a need, the Tribe may submit to OSM a grant application requesting funds to carry out such activities or construction.”

Paragraph (g) of this Section II, B states that the Hopi Tribe must specifically demonstrate: (1) The need or urgency for the activity or the construction of the public facility; (2) the expected impact the project will have on the coal or minerals industry on Hopi Indian lands; (3) the availability of funding from other sources and its percentage of the total costs; (4) Documentation from other State, Tribal, and Federal agencies with oversight for such utilities or facilities regarding what funding resources they have available and why this specific project is not being fully funded by their agency; (5) the impact on the Tribe, the public, and the minerals industry if the activity or facility is not funded; (6) The reason why this project should be selected before a priority project relating to the protection of the public health and safety or the environment from damages caused by past mining activities; and, (7) an analysis and review of the procedures used by the Tribe to notify and involve the public in this funding request and a copy of all comments received and their resolution by the Tribe.

In other words, once a State or Indian Tribe certifies that it has addressed all remaining abandoned coal mine problems and the Secretary concurs, then it may request funds to undertake abandoned noncoal mine reclamation, community impact assistance, and public facilities projects under sections 411(b), (e), and (f), of SMCRA.

Tribal law or regulations that apply to the proposed Kykotsmovi Sewage Lagoon Public Facilities Project funding request include the approved Hopi AML Plan and Hopi Water Code.

III. The Hopi Tribe's Request for Funding 15% of the Cost of the Kykotsmovi Sewer Lagoon Public Facilities Project

In accordance with Section II (B)(f) of the Hopi AML Plan, the Hopi Tribe AML Program submitted to OSM a grant application dated February 2, 2000. In the application, the Hopi Tribe asked for $200,000 to pay for approximately 15 percent of the of the total cost of $1,222,059 for this jointly funded proposal to upgrade the Kykotsmovi Sewer Lagoon Facility. Other potential funding agencies include the Indian Health Service, Village of Kykotsmovi, Hopi Tribe, Bureau of Reclamation, the Hopi Tribal Housing Authority (HUD) and other sources.

The proposed project will expand the existing sewer system by installing new sewer lines and appurtenances to homes not presently serviced by the community sewer and construct a wastewater treatment and disposal facility to enlarge the system's treatment capability; and divert two-thirds of the waste water flow to the West lagoon in order to relieve overload conditions and abandonment of the East lagoon. The wastewater Treatment system will be modeled after components of the Advanced Integrated Wastewater Pond System (AIWPS).

The Tribal Chairman certified the need and urgency to fund this project. There is no remaining inventory of noncoal reclamation work remaining to be done on the Hopi Reservation, so the Hopi Tribe uses its AML fund solely for the purpose of Public Facilities Projects or Community Impact Projects. This proposed project appears to satisfy the priorities established by the Hopi Tribe, consistent with Section 411(f) of SMCRA.

This project is designed to mitigate potential impacts to human health and safety as expressed in the December 30, 1999, Executive Order issued by the Hopi Tribal Chairman. The Order declares a state of emergency to prevent an imminent threat to human health and safety associated with the strong potential for breeching of sewer lagoon causing raw sewage to discharge into Oraibi Wash. In addition, on April 14, 1998, the Village of Kykotsmovi Board of Directors passed a formal resolution supporting a project to upgrade the existing wastewater system, public meetings were held and comments from the community were addressed.

The Indian Health Service, as the primary agency responsible for sanitation projects, has taken the lead role in facilitating this project and together with the Village of Kykotsmovi and the Hopi AML Program have sought out other funding sources. The expected benefit of the project will be the avoidance of potential groundwater contamination and incidence of infectious diseases. In addition, the project will provide for reuse of water for pubic recreation.

IV. How OSM Will Review the Hopi Tribe's Grant Application?

OSM will review this grant application with respect to the regulations at 30 CFR 875.15; specifically §§ 875.15(e) (1) through (7). As stated in those regulations, the application must include the following information: (1) The need or urgency for the activity or the construction of the public facility; (2) the expected impact the project will have on the Hopis' coal or minerals industry; (3) the availability of funding from other sources and, if other funding is provided, its percentage of the total cost involved; (4) documentation from the local, Tribal, State, and Federal agencies with oversight for such utilities or facilities describing what funding they have available and why their agency is not fully funding this specific project; (5) the impact on the Hopi Tribe, the public, and the minerals industry if the facility is not funded; (6) the reason why this project should be selected before the priority project relating to the protection of the public health and safety or the environment from the damage caused by past mining activities; and, (7) an analysis and review of the procedures the Hopi Tribe used to notify and involve the public in this request, and a copy of all comments received and their resolution by the Hopi Tribe. The Hopi Tribe's application for the Kykotsmovi Sewer Lagoon Public Facilities Project contains the prescribed information for these seven items.

Section 875.15(f) requires OSM to evaluate all comments we receive and to determine whether the funding meets the requirements of §§ 875.15(e) (1) through (7) as described above. It also requires us to determine if the request is in the best interests of the Hopi Tribe's AML program. OSM will approve The Hopi Tribe's request to fund this project if we conclude that it meets all the requirements of 30 CFR 875.15.

V. What To Do if You Want To Comment on the Proposed Project?

OSM is asking for public comments on the Hopi Tribe's request for funds to pay for $200,000 (15%) of the total cost of the PFP. You are welcome to comment on the project. If you do, please send us written comments. Make sure your comments are specific and pertain to the Hopi Tribe's funding request in the context of the regulations at 30 CFR 875.15 and the provisions of section 411 of SMCRA. You should explain any recommendations you make. If we receive your comments after the time shown under DATES or at locations other than the Albuquerque Field Office (see ADDRESSES), we will not necessarily consider them in our final decision or include them in the administrative record.

Our practice is to make comments, including names and home addresses of respondents, available for public review during regular business hours. Individual respondents may request that we withhold their home address from the rulemaking (or administrative) record, which we will honor to the extent allowable by law. There also may be circumstances in which we would withhold from the rulemaking (or administrative) record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: April 19, 2000.
Willis L. Gainer,
Director, Albuquerque Field Office.

[FR Doc. 00-11558 Filed 5-8-00; 8:45 am]

BILLING CODE 4310-05-P